DEPARTMENT OF DEFENSE

Department of the Army; Corps of Engineers

Intent Prepare a Draft Environmental Impact Statement (DEIS) for the Bogue Banks Shore Protection Feasibility Study, in Carteret County, NC

AGENCY: Army Corps of Engineers, DoD.

ACTION: Notice of intent.

SUMMARY: The Bogue Banks study area is located on the coast of North Carolina, about 80 miles of ­north Wilmington, North Carolina. This area is at risk from hurricanes and winter storms, which regularly erode the shoreline, causing damages to structures and environmental resources. The proposed shoreline protection study will evaluate several alternatives for implementing solutions to shore protection and related issues on Bogue Banks. These alternatives may include restoration of berms and dunes, with stabilizing vegetation on dunes, removal and/or relocation of structures, and the no-action alternative. The potential project area may be up to 24 miles in length (i.e., from Beaufort to Bogue Inlets). Potential benefits from the proposed project, include the protection of structures and their related infrastructure (i.e., roads, utility lines, etc.), improved aesthetic and recreation opportunities, and improved habitat conditions for endangered species.

FOR FURTHER INFORMATION CONTACT: Questions about the proposed action and DEIS can be answered by: Mr. Hugh Heine; Environmental Resources Section; U.S. Army Engineer District, Wilmington; Post Office Box 1890; Wilmington, North Carolina 28402-1890; telephone: (910) 251-4070.

SUPPLEMENTARY INFORMATION: The proposed shore protection project may consist of a berm or combination of berm and dune to be constructed along various reaches of the oceanfront within the study area. Additionally, the removal and/or relocation of structures from the shoreline will be evaluated. The selection of final project features and reaches for inclusion in the recommended plan will be based on a maximization of net benefits. During the feasibility study, potential offshore sources of borrow material and quantities of sand required for project construction will be determined. Maintenance of project reaches are expected to require renourishment every 3 to 5 years; however, renourishment of portions of the project area could be required more frequently.

Alternative methods of beach nourishment and dredging of offshore borrow areas will also be evaluated including the use of an ocean-certified hydraulic pipeline or hopper dredge.

All private parties and Federal, State, and local agencies having an interest in the study are hereby notified of the study and are invited to comment at this time. Also, a scoping letter requesting input to the study was sent to all known interested parties on December 29, 1999.

Based on comments received to date, a scoping meeting will not be needed. All comments received as a result of this notice of intent and the scoping letter will be considered in the preparation of the DEIS.

Significant environmental resources to be addressed in project development include: (1) Benthic resources, (2) sea turtles and marine mammals, and (3) cultural resources. Efforts will be made to enhance resource conditions and minimize impacts.

The lead agency for this project is the U.S. Army Corps of Engineers District, Wilmington. Cooperating agency status has not been assigned to, nor requested by, any other agency. The DEIS is being prepared in accordance with the requirements of the National Environmental Policy Act of 1969, as amended, and will address the relationship of the proposed action to all other applicable Federal and State Laws and Executive Orders. The DEIS is currently scheduled to be available in the spring of 2003.

Luz D. Ortiz,
Army Federal Register Liaison Officer.

[FR Doc. 02-3083 Filed 2-7-02; 8:45 am]

BILLING CODE 3710-GN-M